DEPARTMENT OF TRANSPORTATION

Federal Aviation Administration

Aviation Rulemaking Advisory Committee Meeting

AGENCY: Federal Aviation Administration (FAA), Transportation (DOT).

ACTION: Notice of Aviation Rulemaking Advisory Committee (ARAC) meeting.

SUMMARY: This notice announces a meeting of the ARAC.

DATES: The meeting will be held on Thursday, June 16, 2022, from 2 to 4 p.m. Eastern Time. Requests to attend the meeting must be received by Tuesday, May 31, 2022. Requests for accommodations to a disability must be received by Tuesday, May 31, 2022. Requests to submit written materials to be reviewed during the meeting must be received no later than Tuesday, May 31, 2022.

ADDRESSES: The meeting will be held at the Federal Aviation Administration (FAA), 800 Independence Avenue SW, Washington, DC 20591, as well as virtually. If the FAA is unable to hold the meeting in person due to circumstances outside of its control, the FAA will notify registrants with the log-in information and post any updates on the FAA Committee website. Members of the public who wish to observe the meeting must RSVP by emailing 9-awa-arac@faa.gov.

General committee information including copies of the meeting minutes will be available on the FAA Committee website at https://www.faa.gov/regulations_policies/rulemaking/committees/documents/.

FOR FURTHER INFORMATION CONTACT: Lakisha Pearson, Federal Aviation Administration, 800 Independence Avenue SW, Washington, DC 20591, telephone (202) 267-4191; fax (202) 267-5075; email 9-awa-arac@faa.gov. Any committee-related requests should be sent to the person listed in this section.

SUPPLEMENTARY INFORMATION:

I. Background

The ARAC was created under the Federal Advisory Committee Act (FACA), in accordance with Title 5 of the United States Code (5 U.S.C. App. 2) to provide advice and recommendations to the FAA concerning rulemaking activities, such as aircraft operations, airman and air agency certification, airworthiness standards and certification, airports, maintenance, noise, and training.

II. Agenda

At the meeting, the agenda will cover the following topics:

• Approval of Minutes

• Status Updates

○ Active Working Groups

○ Transport Airplane and Engine (TAE) Subcommittee

• Recommendation Reports

• FAA Updates

Detailed agenda information will be posted on the FAA Committee website address listed in the ADDRESSES section at least one week in advance of the meeting.

III. Public Participation

The meeting will be open to the public on a first-come, first-served basis, as space is limited. Please confirm your attendance and indicate if you plan to attend the meeting in-person or virtually with the person listed in the FOR FURTHER INFORMATION CONTACT section. Please provide the following information: full legal name, country of citizenship, and name of your industry association, or applicable affiliation. If you are attending as a public citizen, please indicate so. When registration is confirmed, registrants will be provided the virtual meeting information/teleconference call-in number and passcode. Callers are responsible for paying long-distance charges (if any).

The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. Any member of the public may present a written statement to the committee at any time. The public may present written statements to ARAC by providing a copy to the Designated Federal Officer via the email listed in the FOR FURTHER INFORMATION CONTACT section.

Issued in Washington, DC, on June 2, 2022.
Brandon Roberts,
Executive Director, Office of Rulemaking.

[FR Doc. 2022-12228 Filed 6-2-22; 4:15 pm]

BILLING CODE 4910-13-P